DEPARTMENT OF DEFENSE

Department of the Army

32 CFR Part 632

[Docket ID: USA-2017-HQ-0010]

RIN 0702-AA87

Use of Force by Personnel Engaged in Law Enforcement and Security Duties

AGENCY: Department of the Army, DoD.

ACTION: Final rule.

SUMMARY: This final rule removes DoD's regulation concerning the use of force by Department of the Army personnel engaged in law enforcement and security duties. This part conveys internal Army policy and procedures, and is unnecessary.

DATES: This rule is effective on May 29, 2018.

FOR FURTHER INFORMATION CONTACT: Jimmy Blankenship at 703-697-7024.

SUPPLEMENTARY INFORMATION: It has been determined that publication of this CFR part removal for public comment is impracticable, unnecessary, and contrary to public interest since it is based on removing DoD internal policies and procedures that are publically available on the Department's website.

DoD internal guidance will continue to be published in Army Regulation 190-14, “Carrying of Firearms and Use of Force for Law Enforcement and Security Duties,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 632

Law enforcement, Military law, Military personnel, Security measures.

PART 632—[REMOVED]

Accordingly, by the authority of 5 U.S.C. 301, 32 CFR part 632 is removed.

Dated: May 22, 2018.
Brenda S. Bowen,
Army Federal Register Liaison Officer.

[FR Doc. 2018-11397 Filed 5-25-18; 8:45 am]

BILLING CODE 5001-03-P